DEPARTMENT OF COMMERCE

International Trade Administration

[C-570-971]

Multilayered Wood Flooring From the People's Republic of China: Preliminary Results of Countervailing Duty Administrative Review, Rescission of Review, in Part, and Intent To Rescind Review, in Part; 2016

AGENCY: Enforcement and Compliance, International Trade Administration, Department of Commerce.

SUMMARY: The Department of Commerce (Commerce) preliminarily determines that countervailable subsidies are being provided to producers and exporters of multilayered wood flooring (wood flooring) from the People's Republic of China (PRC). Interested parties are invited to comment on these preliminary results of review.

DATES: Applicable December 28, 2018.

FOR FURTHER INFORMATION CONTACT: Dennis McClure or Suzanne Lam, AD/CVD Operations, Office VIII, Enforcement and Compliance, International Trade Administration, U.S. Department of Commerce, 1401 Constitution Avenue NW, Washington, DC 20230; telephone: 202-482-5973 or 202-482-0783, respectively.

SUPPLEMENTARY INFORMATION:.

Background

On December 8, 2011, Commerce issued a countervailing duty (CVD) order on multilayered wood flooring from the PRC.¹ Interested parties requested that Commerce conduct an administrative review of the countervailing duty order,² and on February 23, 2018, Commerce published in the Federal Register a notice of initiation of an administrative review of the Order on 149 producers/exporters for the period of review (POR).³

¹ See Multilayered Wood Flooring from the People's Republic of China: Countervailing Duty Order, 76 FR 76693 (December 8, 2011) (Order).

² See, e.g., the Petitioner's Letter, “Request for Administrative Review: Multilayered Wood Flooring from the People's Republic of China,” dated December 28, 2017; Dalian Peghong Floor Products Co., Ltd.'s (Dalian Penghong) et al Letter, “Multilayered Wood Flooring from the People's Republic of China,” dated December 22, 2017; and Huzhou Jesonwood Co., Ltd.'s (Huzhou Jesonwood) et al., Letter, “Request for Administrative Review of the Countervailing Duty Order on Multilayered Wood Flooring from the People's Republic of China,” dated January 2, 2018.

³ See Initiation of Antidumping and Countervailing Duty Administrative Reviews, 83 FR 8058 (February 23, 2018) (Initiation Notice).

Scope of the Order

The product covered by the Order is wood flooring from the PRC. For a complete description of the scope of this administrative review, see the Preliminary Decision Memorandum.⁴

⁴ See Memorandum, “Decision Memorandum for the Preliminary Results in the Countervailing Duty Administrative Review of Multilayered Wood Flooring from the People's Republic of China: 2016” (Preliminary Decision Memorandum), dated concurrently with, and hereby adopted by, this notice.

Rescission of Administrative Review, in Part

Pursuant to 19 CFR 351.213(d)(1), the Secretary will rescind an administrative review, in whole or in part, if the parties that requested a review withdraw the request within 90 days of the date of publication of the notice of initiation of the requested review. This review was initiated on February 23, 2018. On March 14, 2018, Huzhou Jesonwood submitted a withdrawal request within the 90-day deadline.⁵ On May 7, 2018, Dalian Penghong and 15 other companies submitted withdrawal requests.⁶ The petitioner filed withdrawal requests for Dalian Penghong, Dunhua City Jisen Wood Industry Co., Ltd (Dunhua City Jisen), and Dalian Shumaike Floor Manufacturing Co., Ltd. (Dalian Shumaike).⁷ All of the withdrawal requests submitted above were within the 90-day deadline. Therefore, because there are no remaining requests to review the following companies, in accordance with 19 CFR 351.213(d)(1), and consistent with our practice, we are rescinding this review with respect to Dalian Penghong, Dalian Shumaike, Dunhau City Jisen, Fusong Jinqui, Huzhou Jesonwood, and Shanghaifloor.

⁵ See Huzhou Jesonwood's Letter, “Withdrawal of Review Request in the 6th Administrative Review of the Countervailing Duty Order on Multilayered Wood Flooring from the People's Republic of China,” dated March 14, 2018.

⁶ The following companies submitted withdrawal requests: Changzhou Hawd Flooring Co., Ltd., Dalian Huilong Wooden Products Co., Ltd., Dalian Qianqiu Wooden Product Co., Ltd., Dunhua City Dexin Wood Industry Co., Ltd., Dunhua City Hongyuan Wood Industry Co., Ltd., Dunhua City Jisen Wood Industry Co., Ltd., Fusong Jinlong Wooden Group Co., Ltd. (Fusong Jinlong), Fusong Jinqiu Wooden Product Co., Ltd. (Fusong Jinqiu), Fusong Qianqiu Wooden Product Co., Ltd., Jiaxing Hengtong Wood Co., Ltd., Karly Wood Product Limited, Shanghaifloor Timber (Shanghai) Co., Ltd. (Shanghaifloor), Xiamen Yung De Ornament Co., Ltd., Yingyi-Nature (Kunshan) Wood Industry Co., Ltd., and Zhejiang Shuimojiangnan New Material Technology Co., Ltd.

⁷ See Dalian Penghong Floor Products Co., Ltd.'s Letter, “Multilayered Wood Flooring from the People's Republic of China Withdrawal of Request for Review,” dated May 7, 2018; American Manufacturers of Multilayered Wood Flooring's (Petitioner's) Letter, “Withdrawal of Request for Administrative Review, in Part” dated March 3, 2018 (Petitioners' Withdrawal Request of Dalian); and Petitioner's Letter, “Withdrawal of Request for Administrative Review, in Part” dated May 24, 2018 (Petitioner's Withdrawal Request of Dunhua City Jisen).

Intent To Rescind Administrative Review, in Part

We received timely filed no-shipment certifications from eight companies.⁸ Commerce issued no-shipment inquiries to U.S. Customs and Border Protection (CBP) requesting any information that may contradict the no-shipment claims. We have not received information from CBP to date that contradicts Anhui Boya Bamboo & Wood Products Co., Ltd.'s, Chinafloors Timber (China) Co., Ltd.'s, Jiangsu Keri Wood Co., Ltd.'s, Jiashan On-Line Lumber Co., Ltd.'s, Kingman Floors Co., Ltd.'s, Linyi Bonn Flooring Manufacturing Co., Ltd.'s, and Zhejiang Shiyou Timber Co., Ltd.'s claims of no sales, shipments or entries of subject merchandise to the United States during the POR.⁹ Because these companies timely filed their no-shipment certifications and CBP has not provided information that contradicts the companies' claims, we preliminarily intend to rescind the review of these companies. Absent any evidence of shipments being placed on the record, pursuant to 19 CFR 351.213(d)(3), we intend to rescind the administrative review of these companies in the final results of review.

⁸ See Anhui Boya Bamboo & Wood Products Co., Ltd.'s (Anhui Boya Bamboo) Letter, “Multilayered Wood Flooring from the People's Republic of China: No Shipments Certification,” dated March 13, 2018; Chinafloors Timber (China) Co., Ltd.'s (China Floors) Letter, “Multilayered Wood Flooring from the People's Republic of China: No Shipment Certification of Chinafloors Timber (China) Co., Ltd.,” dated March 23, 2018; Hunchun Forest Wolf Wooden Industry Co., Ltd.'s (Hunchun Forest) Letter, “Multilayered Wood Flooring from the People's Republic of China: No Shipments Certification,” dated March 13, 2018; Jiangsu Keri Wood Co., Ltd.'s (Jiangsu Keri Wood) Letter, “Multilayered Wood Flooring from the People's Republic of China: No Sales Certification,” dated March 14, 2018; Jiashan On-Line Lumber Co., Ltd.'s (Jiashan On-Line Lumber) Letter, “Multilayered Wood Flooring from the People's Republic of China: No Sales Certification,” dated March 13, 2018; Kingman Floors Co., Ltd.'s (Kingman Floors) Letter, “Multilayered Wood Flooring from the People's Republic of China: No Sales Certification,” dated March 13, 2018; Linyi Bonn Flooring Manufacturing Co., Ltd.'s (Linyi Bonn Flooring) Letter, “Multilayered Wood Flooring from the People's Republic of China: No Sales Certification,” dated March 20, 2018; and Zhejiang Shiyou Timber Co., Ltd.'s (Zhejiang Shiyou Timber) Letter, “Multilayered Wood Flooring from the People's Republic of China: No Sales Certification,” dated March 13, 2018.

⁹ See Memorandum, “Certain Multilayered Wood Flooring from China: No Shipment Inquiry with Respect to the Companies Below during the 01/01/2016 through 12/31/2016,” dated September 13, 2018; see also Commerce Memorandum, “Multilayered Wood Flooring from the People's Republic of China: U.S. Customs and Border Protection No Shipment Inquiry,” dated October 9, 2018 (stating that the CBP Center for Excellence and Expertise found 34 shipment entries for Hunchun Forest Wolf Wooden Industry Co., Ltd. and no-shipment entries of subject merchandise by Anhui Boya Bamboo, China Floors, Jiangsu Keri Wood, Jiashan On-Line Lumber, Kingman Floors, Linyi Bonn Flooring and Zhejiang Shiyou Timber).

On October 29, 2018, Huzhou Muyun Wood Co., Ltd. (Muyun Wood) filed a no-shipment certification.¹⁰ On November 13, 2018, we rejected Muyun Wood's request for no-shipment status because the request was untimely filed.¹¹ Consequently, Muyun Wood continues to be subject to this administrative review.

¹⁰ See Muyun Wood's Letter “Multilayered Wood Flooring from the People's Republic of China—No Sales Certification,” dated October 29, 2018.

¹¹ See Commerce Letter re: Multilayered Wood Flooring from the People's Republic of China: Rejection of Letter Submitted October 29, 2018, dated November 13, 2018.

Hunchun Forest timely filed a no-shipment certification.¹² However, Hunchun Forest subsequently withdrew its no-shipment submssion.¹³ Therefore, we are continuing to include Hunchun Forest in this administrative review for purposes of the preliminary results.

¹² See Hunchun Forest's Letter, “Multilayered Wood Flooring from the People's Republic of China: No Shipments Certification,” dated March 13, 2018.

¹³ See Hunchun Forest's Letter, “Multilayered Wood Flooring from the People's Republic of China: Comments on Hunchun Forest Shipments,” dated October 23, 2018.

Methodology

Commerce is conducting this review in accordance with section 751(a)(1)(A) of the Tariff Act of 1930, as amended (Act). For each of the subsidy programs found countervailable, we preliminarily determine that there is a subsidy, i.e., a financial contribution by an “authority” that confers a benefit to the recipient, and that the subsidy is specific.¹⁴ For a full description of the methodology underlying our preliminary conclusions, see the Preliminary Decision Memorandum.

¹⁴ See sections 771(5)(B) and (D) of the Act regarding financial contribution; section 771(5)(E) of the Act regarding benefit; and section 771(5A) of the Act regarding specificity.

The Preliminary Decision Memorandum is a public document and is on file electronically via Enforcement and Compliance's Antidumping and Countervailing Duty Centralized Electronic Service System (ACCESS). ACCESS is available to registered users at https://access.trade.gov and in the Central Records Unit, Room B8024 of the main Department building. In addition, a complete version of the Preliminary Decision Memorandum can be accessed directly on the internet at http://enforcement.trade.gov/frn/index.html. The signed Preliminary Decision Memorandum and the electronic version of the Preliminary Decision Memorandum are identical in content. A list of topics discussed in the Preliminary Decision Memorandum is included as an Appendix to this notice.

In making these preliminary results, the Commerce relied, in part, on facts otherwise available.¹⁵ For further information, see “Provision of Electricity for Less Than Adequate Remuneration (LTAR), Provision of Land-Use Rights to Certain Industrial Zones for LTAR, Provision of Veneers for LTAR, Provision of Cut Timber for LTAR, Export Buyers' Credit, and Other Subsidies” in the Preliminary Decision Memorandum. For further information, see “Use of Facts Otherwise Available and Application of Adverse Inferences” in the Preliminary Decision Memorandum.

¹⁵ See section 776 of the Act.

Rate for Non-Selected Companies Under Review

There are 132 companies for which a review was requested and not rescinded, and which were not selected as mandatory respondents or found to be cross-owned with a mandatory respondent. For these companies, we are preliminarily applying the average of the rates calculated for the mandatory respondents, Jiangsu Senmao Bamboo Wood Industry Co., Ltd. (Jiangsu Senmao) and Riverside Plywood Corp. (Riverside Plywood), which are above de minimis. For further information on the calculation of the non-selected respondent rate, refer to the section in the Preliminary Decision Memorandum entitled “Preliminary Ad Valorem Rate for Non-Selected Companies Under Review.”

Preliminary Results of the Review

In accordance with 19 CFR 351.221(b)(4)(i), we calculated a countervailable subsidy rate for each of the mandatory respondents, Jiangsu Senmao and Riverside Plywood, and their cross-owned affiliates where applicable.

We preliminarily find the countervailable subsidy rates for the mandatory and non-selected respondents under review to be as follows:

Producer/exporter | Subsidy rate (percent)
Jiangsu Senmao Bamboo Wood Industry Co., Ltd | 2.17
Riverside Plywood Corp. and its Cross-Owned Affiliates ¹⁶ | 3.25
A&W (Shanghai) Woods Co., Ltd | 2.81
Anhui Longhua Bamboo Product Co., Ltd | 2.81
Anhui Suzhou Dongda Wood Co., Ltd | 2.81
Armstrong Wood Products (Kunshan) Co., Ltd | 2.81
Baishan Huafeng Wooden Product Co., Ltd | 2.81
Baiying Furniture Manufacturer Co., Ltd | 2.81
Benxi Flooring Factory (General Partnership) | 2.81
Benxi Wood Company | 2.81
Changbai Mountain Development and Protection Zone Hongtu Wood Industrial Co., Ltd | 2.81
Changzhou Hawd Flooring Co., Ltd | 2.81
Cheng Hang Wood Co., Ltd | 2.81
Dalian Dajen Wood Co., Ltd | 2.81
Dalian Huade Wood Product Co., Ltd | 2.81
Dalian Huilong Wooden Products Co., Ltd | 2.81
Dalian Jaenmaken Wood Industry Co., Ltd | 2.81
Dalian Jiahong Wood Industry Co., Ltd | 2.81
Dalian Jiuyuan Wood Industry Co., Ltd | 2.81
Dalian Kemian Wood Industry Co., Ltd | 2.81
Dalian Qianqiu Wooden Product Co., Ltd | 2.81
Dalian T-Boom Wood Products Co., Ltd | 2.81
Dalian Xinjinghua Wood Co., Ltd | 2.81
Dongtai Fuan Universal Dynamics, LLC | 2.81
Dongtai Zhangshi Wood Industry Co. Ltd | 2.81
Dun Hua Sen Tai Wood Co., Ltd | 2.81
Dunhua City Dexin Wood Industry Co., Ltd | 2.81
Dunhua City Hongyuan Wood Industry Co., Ltd | 2.81
Dunhua City Wanrong Wood Industry Co., Ltd | 2.81
Dunhua Shengda Wood Industry Co., Ltd | 2.81
Fine Furniture (Shanghai) Limited | 2.81
Fu Lik Timber (HK) Co., Ltd | 2.81
Fujian Wuyishan Werner Green Industry Co., Ltd | 2.81
Fusong Jinlong Wooden Group Co., Ltd | 2.81
Fusong Qianqiu Wooden Product Co., Ltd | 2.81
GTP International Ltd | 2.81
Guangdong Fu Lin Timber Technology Limited | 2.81
Guangdong Yihua Timber Industry Co., Ltd | 2.81
Guangzhou Homebon Timber Manufacturing Co., Ltd | 2.81
Guangzhou Panyu Kangda Board Co., Ltd | 2.81
Guangzhou Panyu Southern Star Co., Ltd | 2.81
HaiLin LinJing Wooden Products, Ltd | 2.81
HaiLin XinCheng Wooden Products, Ltd | 2.81
Hangzhou Dazhuang Floor Co., Ltd. (dba Dasso Industrial Group Co., Ltd.) | 2.81
Hangzhou Hanje Tec Company Limted | 2.81
Hangzhou Huahi Wood Industry Co., Ltd | 2.81
Hangzhou Zhengtian Industrial Co., Ltd | 2.81
Henan Xingwangjia Technology Co., Ltd | 2.81
Hong Kong Easoon Wood Technology Co., Ltd | 2.81
Huaxin Jiasheng Wood Co., Ltd | 2.81
Huber Engineering Wood Corp. | 2.81
Hunchun Forest Wolf Wooden Industry Co., Ltd | 2.81
Hunchun Xingjia Wooden Flooring Inc | 2.81
Huzhou Chenghang Wood Co., Ltd | 2.81
Huzhou City Nanxun Guangda Wood Co., Ltd | 2.81
Huzhou Fulinmen Imp. & Exp. Co., Ltd | 2.81
Huzhou Fuma Wood Co., Ltd | 2.81
Huzhou Muyun Wood Co., Ltd | 2.81
Huzhou Sunergy World Trade Co., Ltd | 2.81
Innomaster Home (Zhongshan) Co., Ltd | 2.81
Jiafeng Wood (Suzhou) Co., Ltd | 2.81
Jiangsu Guyu International Trading Co., Ltd | 2.81
Jiangsu Kentier Wood Co., Ltd | 2.81
Jiangsu Simba Flooring Co., Ltd | 2.81
Jiangsu Yuhui International Trade Co., Ltd | 2.81
Jiashan Fengyun Timber Co., Ltd | 2.81
Jiashan HuiJiaLe Decoration Material Co., Ltd | 2.81
Jiaxing Brilliant Import & Export Co., Ltd | 2.81
Jiaxing Hengtong Wood Co., Ltd | 2.81
Jilin Forest Industry Jinqiao Flooring Group Co., Ltd | 2.81
Jilin Xinyuan Wooden Industry Co., Ltd | 2.81
Jingsu Mingle Flooring Co., Ltd | 2.81
Karly Wood Product Limited | 2.81
Kember Flooring, Inc | 2.81
Kemian Wood Industry (Kunshan) Co., Ltd | 2.81
Kornbest Enterprises Limited | 2.81
Kunming Alston (AST) Wood Products Co., Ltd | 2.81
Les Planchers Mercier, Inc | 2.81
Linyi Anying Wood Co., Ltd | 2.81
Linyi Youyou Wood Co., Ltd | 2.81
Metropolitan Hardwood Floors, Inc | 2.81
Mudanjiang Bosen Wood Industry Co., Ltd | 2.81
Nakahiro Jyou Sei Furniture (Dalian) Co., Ltd | 2.81
Nanjing Minglin Wooden Industry Co., Ltd | 2.81
Ningbo Tianyi Bamboo and Wood Products Co., Ltd | 2.81
Pinge Timber Manufacturing (Zhejiang) Co., Ltd | 2.81
Power Dekor Group Co. Ltd | 2.81
Qingdao Barry Flooring Co., Ltd | 2.81
Samling Elegant Living Trading (Labuan) Ltd | 2.81
Samling Global USA, Inc | 2.81
Samling Riverside Co., Ltd | 2.81
Scholar Home (Shanghai) New Material Co. Ltd | 2.81
Shandong Kaiyuan Wood Industry Co., Ltd | 2.81
Shandong Longteng Wood Co., Ltd | 2.81
Shandong Puli Trading Co., Ltd | 2.81
Shanghai Anxin (Weiguang) Timber Co., Ltd | 2.81
Shanghai Demeija Timber Co., Ltd | 2.81
Shanghai Eswell Timber Co., Ltd | 2.81
Shanghai Lairunde Wood Co., Ltd | 2.81
Shanghai Lizhong Wood Products Co., Ltd. (aka The Lizhong Wood Industry Limited Company of Shanghai) | 2.81
Shanghai New Sihe Wood Co., Ltd | 2.81
Shanghai Shenlin Corporation | 2.81
Shenyang Haobainian Wooden Co., Ltd | 2.81
Shenyang Sende Wood Co., Ltd | 2.81
Shenzhenshi Huanwei Woods Co., Ltd | 2.81
Sino-Maple (Jiangsu) Co., Ltd | 2.81
Suzhou Anxin Weiguang Timber Co., Ltd | 2.81
Suzhou Dongda Wood Co., Ltd | 2.81
Tak Wah Building Material (Suzhou) Co | 2.81
Tech Wood International Ltd | 2.81
Tongxiang Jisheng Import and Export Co., Ltd | 2.81
Vicwood Industry (Suzhou) Co. Ltd | 2.81
Xiamen Yung De Ornament Co., Ltd | 2.81
Xuzhou Antop International Trade Co., Ltd | 2.81
Xuzhou Shenghe Wood Co., Ltd | 2.81
Yekalon Industry, Inc | 2.81
Yihua Lifestyle Technology Co., Ltd | 2.81
Yingyi-Nature (Kunshan) Wood Industry Co., Ltd | 2.81
Yixing Lion-King Timber Industry | 2.81
Zhejiang Anji Xinfeng Bamboo and Wood Industry Co., Ltd | 2.81
Zhejiang Biyork Wood Co., Ltd | 2.81
Zhejiang Dadongwu Green Home Wood Co., Ltd | 2.81
Zhejiang Desheng Wood Industry Co., Ltd | 2.81
Zhejiang Fudeli Timber Industry Co., Ltd | 2.81
Zhejiang Fuerjia Wooden Co., Ltd | 2.81
Zhejiang Fuma Warm Technology Co., Ltd | 2.81
Zhejiang Haoyun Wooden Co., Ltd | 2.81
Zhejiang Jesonwood Co., Ltd | 2.81
Zhejiang Jiechen Wood Industry Co., Ltd | 2.81
Zhejiang Longsen Lumbering Co., Ltd | 2.81
Zhejiang Shuimojiangnan New Material Technology Co., Ltd | 2.81
Zhejiang Simite Wooden Co., Ltd | 2.81
Zhejiang Tianzhen Bamboo & Wood Development Co., Ltd | 2.81
Zhejiang Yongyu Bamboo Joint-Stock Co., Ltd | 2.81

¹⁶ Cross-owned affiliates are Baroque Timber Zhongshan Co. Ltd. and Suzhou Times Flooring Co., Ltd.

Disclosure and Public Comment

We will disclose to parties in this proceeding the calculations performed in reaching the preliminary results within five days of publication of these preliminary results.¹⁷ Interested parties may submit written comments (case briefs) on the preliminary results no later than 30 days from the date of publication of this Federal Register notice, and rebuttal comments (rebuttal briefs) within five days after the time limit for filing case briefs.¹⁸ Pursuant to 19 CFR 351.309(d)(2), rebuttal briefs must be limited to issues raised in the case briefs. Pursuant to 19 CFR 351.309(c)(2) and (d)(2), parties who submit case briefs or rebuttal briefs in this review are requested to submit with each argument: (1) A statement of the issue; (2) a brief summary of the argument; and (3) a table of authorities.

¹⁷ See 19 CFR 351.224(b).

¹⁸ See 19 CFR 351.309(c)(1)(ii) and 351.309(d)(1).

Pursuant to 19 CFR 351.310(c), interested parties who wish to request a hearing must submit a written request to the Assistant Secretary for Enforcement and Compliance within 30 days of the date of publication of this notice. Requests should contain: (1) The party's name, address and telephone number; (2) the number of participants; and (3) a list of issues parties intend to discuss. Issues raised in the hearing will be limited to those raised in the respective case and rebuttal briefs. If a request for a hearing is made, Commerce intends to hold the hearing at the U.S. Department of Commerce, 1401 Constitution Avenue NW, Washington, DC 20230, at a date and time to be determined.¹⁹ Parties should confirm by telephone the date, time, and location of the hearing two days before the scheduled date.

¹⁹ See 19 CFR 351.310.

Parties are reminded that briefs and hearing requests are to be filed electronically using ACCESS and that electronically filed documents must be received successfully in their entirety by 5 p.m. Eastern Time on the due date.

Unless the deadline is extended pursuant to section 751(a)(3)(A) of the Act, we intend to issue the final results of this administrative review, including the results of our analysis of the issues raised by the parties in their comments, within 120 days after publication of these preliminary results.

Assessment Rates

In accordance with 19 CFR 351.221(b)(4)(i), we preliminarily assigned subsidy rates in the amounts shown above for the producer/exporters shown above. Upon completion of the administrative review, consistent with section 751(a)(1) of the Act and 19 CFR 351.212(b)(2), Commerce shall determine, and U.S. Customs and Border Protection (CBP) shall assess, countervailing duties on all appropriate entries covered by this review. We intend to issue instructions directly to CBP 15 days after publication of the final results of this review. For the companies for which this review is rescinded, Commerce will instruct CBP to assess countervailing duties on all appropriate entries at a rate equal to the cash deposit of estimated countervailing duties required at the time of entry, or withdrawal from warehouse, for consumption, during the period January 1, 2016, through December 31, 2016, in accordance with 19 CFR 351.212(c)(l)(i). Commerce intends to issue appropriate assessment instructions directly to CBP 15 days after publication of this notice.

Cash Deposit Requirements

In accordance with section 751(a)(1) of the Act, Commerce intends upon publication of the final results to instruct CBP to collect cash deposits of estimated countervailing duties in the amounts shown for each of the respective companies listed above on shipments of subject merchandise entered, or withdrawn from warehouse, for consumption on or after the date of publication of the final results of this administrative review. For all non-reviewed firms, we will instruct CBP to continue to collect cash deposits at the most recent company-specific or all-others rate applicable to the company. These cash deposit requirements, when imposed, shall remain in effect until further notice.

Notification to Interested Parties

These preliminary results are issued and published pursuant to sections 751(a)(1) and 777(i)(1) of the Act and 19 CFR 351.221(b)(4).

Dated: December 20, 2018.
P. Lee Smith,
Deputy Assistant Secretary for Policy and Negotiations.

Appendix—List of Topics Discussed in the Preliminary Decision Memorandum

I. Summary

II. Background

A. Case History

B. Postponement of Preliminary Results

C. Period of Review

D. Rescission of Review, In Part

E. Intent To Rescind, in Part, the Administrative Review

III. Scope of the Order

IV. Use of Facts Otherwise Available and Application of Adverse Inferences

A. Legal Standard

B. Application of AFA: Provision of Electricity for LTAR

C. Application of AFA: Provision of Land-Use Rights to Certain Industrial Zones for LTAR

D. Application of AFA: Provision of Veneers for LTAR

E. Application of AFA: Provision of Cut Timber for LTAR

F. Application of AFA: Export Buyers' Credit

G. Application of AFA: “Other Subsidies”

V. Subsidies Valuation

A. Allocation Period

B. Attribution of Subsidies

C. Denominators

VI. Interest Rate Benchmarks, Discount Rates, Inputs, Land-Use and Electricity

VII. Analysis of Programs

A. Programs Preliminarily Determined To Be Countervailable

B. Programs Preliminarily Determined Not To Confer a Countervailable Benefit

C. Programs Preliminarily Determined Not To Confer a Measurable Benefit

D. Programs Preliminarily Determined Not To Be Used

VIII. Preliminary Ad Valorem Rate for Non-Selected Companies Under Review

IX. Recommendation

[FR Doc. 2018-28240 Filed 12-27-18; 8:45 am]

BILLING CODE 3510-DS-P